DEPARTMENT OF TRANSPORTATION

Federal Highway Administration

Notice of Final Federal Agency Actions on Proposed Highway Projects in Texas

AGENCY: Texas Department of Transportation (TxDOT), Federal Highway Administration (FHWA), Department of Transportation.

ACTION: Notice of limitation on claims for judicial review of actions by TxDOT and federal agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is 150 days from the date of publication. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. Hi-Line Road, from Cage Boulevard (US 281) to Veterans Road (I Road), Hidalgo County, Texas. The purpose of the project is to improve safety and connectivity by reconstructing and widening Hi-Line Road from Cage Boulevard to Veterans Road from a two-lane rural roadway with 12-foot wide travel lanes and roadside ditches to a three-lane urban roadway with 14-foot wide travel lanes and a 16-foot wide center left-turn lane, with curb and gutter drainage system, for approximately 1.03 miles. The actions by TxDOT and Federal agencies and the laws under which such actions were taken are described in the Categorical Exclusion Determination issued on June 23, 2021, and other documents in the TxDOT project file. The Categorical Exclusion Determination and other documents in the TxDOT project file are available by contacting the TxDOT Pharr District Office at 600 W Interstate 2, Pharr, TX 78577; telephone (956) 702-6100.

2. The US 287 project from the Union Pacific Railroad (UPRR) to south of Lone Star Rd, Tarrant and Johnson Counties, Texas. The project includes the construction of frontage roads (northbound and southbound) within the existing US 287 right of way. U-Turn lanes would be provided at the north and south ends of the project. Bike lanes would be included along the frontage roads to accommodate cyclists. Continuous sidewalks and shoulders would be constructed along the frontage roads to accommodate pedestrians as well as curb-and-gutter and drainage structures. A short segment of Lone Star Road would be reconstructed and widened from two lanes to six lanes from BUS 287 (South Main Street) to the main driveway leading to Texas Health Mansfield. The actions by TxDOT and Federal agencies and the laws under which such actions were taken are described in the Categorical Exclusion Determination issued on July 10, 2021, and other documents in the TxDOT project file. The Categorical Exclusion Determination and other documents in the TxDOT project file are available by contacting the TxDOT Fort Worth District Office at 2501 SW Loop 820, Fort Worth, Texas 76133; telephone: (817) 370-6744.

3. FM Spur 121, from CR 60 to FM 121, Grayson County, Texas. The purpose of the project is to improve connectivity by constructing a new-location two-lane rural roadway with 12-foot wide travel lanes, 10-foot wide shoulders, and roadside ditches, for approximately 4.2 miles. The actions by TxDOT and Federal agencies and the laws under which such actions were taken are described in the Categorical Exclusion Determination issued on July 16, 2021, and other documents in the TxDOT project file. The Categorical Exclusion Determination and other documents in the TxDOT project file are available by contacting the TxDOT Paris District Office at 1365 N Main St., Paris, Texas 75460; telephone (903) 737-9300.

4. The SH 183 at Union Pacific Railroad (UPRR) widening and bridge replacement project, Tarrant County, Texas. The project includes replacement of the existing UPRR underpass on SH 183 and the widening of the existing SH 183 roadway to accommodate left- and right-turn lanes at the intersections. Improvements will also include retaining walls, shared use paths, grading, illumination, and storm system improvements. The project limits are SH 183 from approximately 850 feet west of North Nichols Street to approximately 630 feet east of Decatur Avenue, including both rail and roadway sections. Overall, the proposed improvements would extend approximately 0.475 mile along SH 183. The actions by TxDOT and Federal agencies and the laws under which such actions were taken are described in the Categorical Exclusion Determination issued on July 28, 2021, and other documents in the TxDOT project file. The Categorical Exclusion Determination and other documents in the TxDOT project file are available by contacting the TxDOT Fort Worth District Office at 2501 SW Loop 820, Fort Worth, Texas 76133; telephone: (817) 370-6744.

5. SH 5 from south of CR 275 to south of Melissa Road in Collin County, Texas. The proposed improvements would include the reconstruction and widening of SH 5 within the project limits. SH 5 from CR 275 to south of Melissa Road would be reconstructed from a 2-lane rural roadway to a 4-lane (6-lane ultimate) divided urban roadway with raised curb and a variable-width median. SH 121, from south of the intersection of SH 121 and CR 338 to the Union Pacific Railroad (UPRR), would be reconstructed from a 4-lane divided rural roadway with depressed median to a 4-lane (6-lane ultimate) divided urban roadway with a variable-width median. The total project length is approximately 2.5 miles. The purpose of the proposed project along SH 5 is to improve safety and mobility, and update the roadway to current design and safety standards. The actions by TxDOT and Federal agencies and the laws under which such actions were taken are described in the Categorical Exclusion Determination issued on August 3, 2021, and other documents in the TxDOT project file. The Categorical Exclusion Determination and other documents in the TxDOT project file are available by contacting the TxDOT Dallas District Office at 4777 E Highway 80, Mesquite, TX 75150; telephone: (214) 320-6200.

6. FM 1173 from FM 156 to IH 35 in Denton County, Texas. The proposed improvements would include constructing a new six-lane urban highway with sidewalks on both sides. The reconstruction of FM 1173 would be approximately 5,400 feet in length; the new construction portion of FM 1173 would be approximately 3,200 feet and the reconstruction of the existing Barthold Road would be approximately 10,400 feet in length. The total project length is approximately 3.6 miles. The purpose of the proposed project is to provide infrastructure options to reduce traffic congestion on the existing roadways, to increase mobility (including pedestrian and bicycle accommodations), and to address design deficiencies. The actions by TxDOT and Federal agencies and the laws under which such actions were taken are described in the Categorical Exclusion Determination issued on August 25, 2021, and other documents in the TxDOT project file. The Categorical Exclusion Determination and other documents in the TxDOT project file are available by contacting the TxDOT Dallas District Office at 4777 E Highway 80, Mesquite, TX 75150; telephone (214) 320-6200.

7. SH 359 from approximately four miles east of SL 20 to approximately ten miles east of SL 20 in Webb County, Texas. The project will widen SH 359 from the existing two-lane roadway with a continuous left turn lane to a four-lane roadway with a continuous left turn lane for approximately three miles, and a four-lane divided highway for approximately three miles. The total distance for this project will be approximately six miles and will accommodate the increase of traffic in the area with added safety features added to this roadway. This will serve the adjacent subdivisions and the commuters passing through from surrounding areas as well as the transportation of goods. The actions by TxDOT and Federal agencies and the laws under which such actions were taken are described in the Categorical Exclusion Determination issued on August 31, 2021, and other documents in the TxDOT project file. The Categorical Exclusion Determination and other documents in the TxDOT project file are available by contacting the TxDOT Laredo District Office at 1817 Bob Bullock Loop, Laredo, Texas 78043; telephone: 956-712-7400.

8. SL 195, from FM 755 to US 83, Starr County, Texas. The purpose of the project is to increase mobility by providing an additional route for traffic traveling through southern Starr County between the cities of Rio Grande City and Roma. The proposed project would involve the construction of a new-location 4-lane divided highway connecting FM 755 to US 83 for approximately 17.24 miles. The actions by TxDOT and Federal agencies and the laws under which such actions were taken are described in the Environmental Assessment (EA), the Finding of No Significant Impact (FONSI) issued on June 8, 2021, and other documents in the TxDOT project file. The EA, FONSI, and other documents in the TxDOT project file are available by contacting the TxDOT Pharr District Office at 600 W Interstate 2, Pharr, Texas 78577; telephone: (956) 702-6100.

9. US 271/SL 485 from FM 16 to the Gregg/Upshur County line in Smith and Gregg Counties, Texas. The purpose of the proposed project is to improve safety and connectivity on US 271/SL 485 between the cities of Gladewater and Tyler by widening the road to a four-lane highway with two 12-foot travel lanes in each direction, a variable center median, shoulders, with bicycle accommodations and curb and gutter in portions of the project. The proposed project length is approximately 10.4 miles in length. The actions by TxDOT and Federal agencies and the laws under which such actions were taken are described in the Final Environmental Assessment (EA), the Finding of No Significant Impact (FONSI) issued on July 27, 2021, and other documents in the TxDOT project file. The EA, FONSI, and other documents in the TxDOT project file are available by contacting the TxDOT Tyler District Office at 2709 W Front St., Tyler, Texas 75702; telephone (903) 510-9100.

10. US 87 Expansion Project from east of the US 385 Interchange near Hartley, to FM 2589 west of Dumas, in Moore and Hartley Counties, Texas. The proposed project includes expanding the roadway from the current two-lane with super-two passing lanes configuration to a four-lane divided highway. This project is approximately 20 miles long. The actions by TxDOT and Federal agencies and the laws under which such actions were taken are described in the Final Environmental Assessment (EA), the Finding of No Significant Impact (FONSI) issued on July 29, 2021, and other documents in the TxDOT project file. The EA, FONSI, and other documents in the TxDOT project file are available by contacting the TxDOT Amarillo District Office at 5715 Canyon Drive, Amarillo, Texas 79110; telephone: (806) 356-3256.

11. US 281 from SH 186/FM 1017 to FM 3066, in Hidalgo and Brooks Counties, Texas. The purpose of the project is to upgrade US 281 to interstate standards and improve mobility to meet projected traffic demand. The proposed project would involve widening and reconstruction of the main lanes, as well as addition of frontage roads and overpasses throughout portions of the project area, for approximately 41.9 miles. The actions by TxDOT and Federal agencies and the laws under which such actions were taken are described in the Environmental Assessment (EA), the Finding of No Significant Impact (FONSI) issued on September 13, 2021 and other documents in the TxDOT project file. The EA, FONSI, and other documents in the TxDOT project file are available by contacting the TxDOT Pharr District Office at 600 W Interstate 2, Pharr, Texas 78577; telephone: (956) 702-6100.

Authority: 23 U.S.C. 139(l)(1).

Michael T. Leary,
Director, Planning and Program Development, Federal Highway Administration.

[FR Doc. 2021-20916 Filed 9-27-21; 8:45 am]

BILLING CODE 4910-22-P